DEPARTMENT OF HEALTH AND HUMAN SERVICES

Health Resources and Services Administration

Medical Student Education Program Non-Competitive Supplement

AGENCY: Health Resources and Services Administration (HRSA), Department of Health and Human Services.

ACTION: Notice of class deviation from competition requirements.

SUMMARY: HRSA provides grants to public institutions of higher education to expand or support graduate education for medical students preparing to become physicians in states with a projected primary care provider shortage. This supplemental funding is for the 12 Medical Student Education (MSE) Program award recipients from cohort fiscal year 2023, HRSA-23-124, to expand scholarships and faculty, preceptor, and curriculum development activities.

FOR FURTHER INFORMATION CONTACT: Andrea Knox, Acting Chief, Medical Training and Geriatrics Branch, Division of Medicine and Dentistry, Bureau of Health Workforce, HRSA, 5600 Fishers Lane, Rockville, MD 20852, email: aknox@hrsa.gov, phone: 301-443-4170.

SUPPLEMENTARY INFORMATION:

Intended Recipient(s) of the Award: MSE Program award recipients, as listed in Table 1.

Amount of Non-Competitive Supplement Award(s): $14.1 million; $1.175 million to each for fiscal year 2026.

Project Period: July 1, 2026, to June 30, 2027.

Assistance Listing Number: 93.680.

Award Instrument: Non-competitive supplement for MSE.

Authority: Consolidated Appropriations Act, 2022 (Pub. L. 117-103); Consolidated Appropriations Act, 2023 (Pub. L. 117-328); Full-Year Continuing Appropriations and Extensions Act, 2025 (Pub. L. 118-4).

Table 1—Recipients and Award Amounts
Grant No. | Award recipient name | City, state | Original award amount
T99HP52105 | University of Arkansas for Medical Sciences | Little Rock, AR | $4,000,000
T99HP52104 | University of Alabama at Birmingham | Birmingham, AL | 3,999,999
T99HP52110 | University of Missouri System | Columbia, MO | 4,000,000
T99HP52113 | University of Utah | Salt Lake City, UT | 3,999,999
T99HP52111 | University of Oklahoma | Oklahoma City, OK | 3,999,999
T99HP52106 | The University of Kentucky Research Foundation | Lexington, KY | 3,970,759
T99HP52109 | University of Missouri System | Kansas City, MO | 4,000,000
T99HP52112 | University of South Alabama | Mobile, AL | 4,000,000
T99HP52103 | Trustees of Indiana University | Bloomington, IN | 3,865,680
T99HP52108 | University of Mississippi Medical Center | Jackson, MS | 3,973,000
T99HP54245 | Oklahoma State University | Tulsa, OK | 4,000,000
T99HP52107 | University of Louisville | Louisville, KY | 4,000,000

Justification: HRSA is providing a $1.175 million supplement to each of the 12 MSE grant recipients from cohort 2023; HRSA-23-124. The supplement will provide scholarships to medical students in their 3rd or 4th year, who are applying to primary care residency programs in general internal medicine, general pediatrics, family medicine, or internal medicine/pediatrics. This core funding is designed to support students early in their training who are aligned with the MSE Program purpose, goals, and objectives. These years are critical in a student's educational journey, as they begin clinical rotations, choose and apply for residency training specialties, and make firm decisions about future practice locations. This supplement provides additional incentive and support at a time when long-term career intentions are being considered. In addition, the following activities are required under this supplement:

(1) Support the development of faculty in general internal medicine, general pediatrics, family medicine, or internal medicine/pediatrics.

(2) Support the training of general internal medicine, general pediatrics, family medicine, or internal medicine/pediatrics primary care providers to become and/or serve as preceptors and provide stipend support as needed.

(3) Create/enhance and implement curricula that includes:

• Integrating behavioral health and primary care practice including prevention and treatment of opioid and other substance use disorders;

• Incorporating the use of telehealth and technology methods such as Multiple Chronic Conditions e-Care Plan, artificial intelligence and assistive technology, and mobile health technologies to provide telehealth and in-person care delivery;

• Facilitating health systems and practice transformation through the use of digital health, value-based care, and patient-centered approaches to improve quality, reduce costs, and adapt to new technologies and payment models; and

• Educating and training medical students on environmental health and community nutrition needs to Make America Healthy Again.

Thomas J. Engels,
Administrator.

[FR Doc. 2025-21742 Filed 12-1-25; 8:45 am]

BILLING CODE 4165-16-P